DEPARTMENT OF HOMELAND SECURITY

Coast Guard

33 CFR Part 165

[Docket No. USCG-2021-0401]

Safety Zone; Southern California Annual Fireworks for the San Diego Captain of the Port Zone

AGENCY: Coast Guard, DHS.

ACTION: Notice of enforcement of regulation.

SUMMARY: The Coast Guard will enforce a safety zone for the Sea World Fireworks for nightly shows from Memorial Day to Labor Day in 2021, to provide for the safety of life on navigable waterways during this event. Our regulation for the Southern California annual fireworks for the San Diego Captain of the Port Zone identifies the regulated area for the events. During the enforcement period, no spectators shall anchor, block, loiter in, or impede the transit of official patrol vessels in the regulated area without the approval of the Captain of the Port, or his designated representative.

DATES: The regulations 33 CFR 165.1123 will be enforced for the location identified in Item 7 of Table 1 to § 165.1123 from 8:30 p.m. until 10 p.m., each day without actual notice from June 22, 2021 through September 6, 2021. For the purposes of enforcement, actual notice will be used from June 15, 2021 until June 22, 2021.

FOR FURTHER INFORMATION CONTACT: If you have questions about this notice of enforcement, call or email Lieutenant Commander John Santorum, Waterways Management, U.S. Coast Guard Sector San Diego, CA; telephone 619-278-7656, email MarineEventsSD@uscg.mil.

SUPPLEMENTARY INFORMATION: The Coast Guard will enforce the regulations in 33 CFR 165.1123 for a safety zone for the Sea World Fireworks on the waters of Mission Bay, CA in § 165.1123, Table 1, Item 7 of that section, from 8:30 p.m. until 10 p.m. on specific evenings from Memorial Day to Labor Day in 2021. This action is being taken to provide for the safety of life on navigable waterways during the fireworks events. Our regulation for Southern California annual fireworks events for the San Diego Captain of the Port Zone identifies the regulated area for the events. Under the provisions of § 165.1123, a vessel may not enter the regulated area, unless it receives permission from the Captain of the Port, or his designated representative. Spectator vessels may safely transit outside the regulated area but may not anchor, block, loiter, or impede the transit of participants or official patrol vessels. The Coast Guard may be assisted by other Federal, State, or Local law enforcement agencies in enforcing this regulation.

In addition to this notice of enforcement in the Federal Register, the Coast Guard plans to provide notification of this enforcement period via the Local Notice to Mariners.

Dated: June 15, 2021.
T.J. Barelli,
Captain, U. S. Coast Guard, Captain of the Port San Diego.

[FR Doc. 2021-13022 Filed 6-21-21; 8:45 am]

BILLING CODE 9110-04-P